DEPARTMENT OF COMMERCE

U.S. Census Bureau

Proposed Information Collection; Comment Request; Construction Progress Reporting Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 15, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Erica M. Filipek, U.S. Census Bureau, MCD, CENHQ Room 7K057, 4600 Silver Hill Road, Washington, DC 20233-6900, telephone (301) 763-5161 (or via email at erica.mary.filipek@census.gov).

SUPPLEMENTARY INFORMATION:

I. Abstract

The Census Bureau plans to request a three-year extension of a currently approved collection for forms C-700, Private Construction Projects; C-700(R), Multifamily Residential Projects; C-700(SL), State and Local Government Projects; and C-700(F) Federal Government Projects. These forms are used to conduct the Construction Progress Reporting Surveys (CPRS) to collect information on the dollar value of construction put in place by private companies, individuals, private multifamily residential buildings, state and local governments and the Federal government.

The Census Bureau is the preeminent collector and provider of timely, relevant and quality data about the people and economy of the United States. The Form C-700, Private Construction Projects, collects construction put in place data for nonresidential projects owned by private companies or individuals. The Form C-700(R), Multifamily Residential Projects, collects construction put in place data for private multifamily residential buildings. The Form C-700(SL), State and Local Government Projects, collects construction put in place data for state and local government projects. The Form C-700(F), Federal Government Projects collects construction put in place for federal government projects.

The Census Bureau uses the information from these surveys to publish the value of construction put in place series. Published estimates are used by a variety of private business and trade associations to estimate the demand for building materials and to schedule production, distribution, and sales efforts. They also provide various government agencies with a tool to evaluate economic policy and to measure progress towards established goals. For example, Bureau of Economic Analysis staff use data to develop the construction components of gross private domestic investment in the gross domestic product. The Federal Reserve Board and the Department of the Treasury use the value in place data to predict the gross domestic product, which is presented to the Board of Governors and has an impact on monetary policy.

II. Method of Collection

An independent systematic sample of projects is selected each month according to predetermined sample rates. Once a project is selected, it remains in the sample until completion of the project. Preprinted forms are mailed monthly to respondents to fill in current month data and any revisions to previous months. Respondents also have the option to report online using a password protected site. Nonrespondents are later called by a Census interviewer and report data over the phone. Having the information available from a database at the time of the interview greatly helps reduce the time respondents spend on the phone. Interviews are scheduled at the convenience of the respondent, which further reduces their burden.

III. Data

OMB Control Number: 0607-0153.

Form Number: C-700, C-700(R), C-700(SL), C-700(F).

You can obtain information on the proposed content at this Web site: www.census.gov/mcd/clearance.

Type of Review: Regular submission.

Affected Public: Individuals, Businesses or Other for Profit, Not-for-Profit Institutions, Small Businesses or Organizations, State and Local Governments and the Federal Government.

Estimated Number of Respondents:

C-700 = 4,500

C-700(R) = 2,000

C-700(SL) = 12,500

C-700(F) = 2,000

TOTAL = 21,000

Estimated Time per Response: 5 to 15 minutes per month.

Estimated Total Annual Burden Hours: 54,600.

Estimated Total Annual Cost: $2 million.

Respondents Obligation: Voluntary.

Legal Authority: Title 13, U.S.C., Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents.

Comments submitted in response to this notice will be summarized and/or included in the request for OMB approval of this information collection; they also will become a matter of public record.

Dated: January 9, 2013.
Glenna Mickelson,
Management Analyst, Office of the Chief Information Officer.

[FR Doc. 2013-00550 Filed 1-11-13; 8:45 am]

BILLING CODE 3510-12-P